DEPARTMENT OF HEALTH AND HUMAN SERVICES

Centers for Medicare & Medicaid Services

[CMS-5502-N3]

Medicare Program; Accountable Care Organization Accelerated Development Learning Sessions; Center for Medicare and Medicaid Innovation

November 17 and 18, 2011.

AGENCY: Centers for Medicare & Medicaid Services (CMS), HHS.

ACTION: Notice of meeting.

SUMMARY: This notice announces the date and location of the third and last in a series of public educational sessions hosted by the Centers for Medicare & Medicaid Services (CMS). This two-day training session is the third and final Accelerated Development Learning Session (ADLS) hosted by CMS to help Accountable Care Organizations (ACOs) deliver better care and reduce costs. We invite all new or existing ACO entities to register a team of senior executives to attend the in-person ADLS. The ADLS will provide executives with the opportunity to learn about core functions of an ACO and ways to build their organization's capacity to succeed as an ACO.

DATES: Meeting Date: Thursday, November 17, 2011, 8 a.m. to 5:45 p.m., eastern standard time (E.S.T.) Friday, November 18, 2011, 8 a.m. to 4 p.m. (E.S.T.)

Deadline for Meeting Registration: Registration for the second ADLS will remain open until capacity has been reached for the November 17 through 18 in-person meeting. Space is limited and participants are encouraged to register as soon as possible.

ADDRESSES: Meeting Location: The third and final ADLS will be held at the Centers for Medicare & Medicaid Services (CMS) at 7500 Security Boulevard, Baltimore, MD. Participants are responsible for their own travel, parking, meals, and overnight stay expenses. More information about the venue and accommodations can be found at https://acoregister.rti.org/. Potential participants are also strongly encouraged to complete the comprehensive planning tool discussed in section II. of this notice before arriving to the meeting.

Meeting Registration, Presentations, and Written Comments: Registration information and documents can be accessed online at https://acoregister.rti.org/.

Registration: Eligible organizations interested in registering for the ADLS should visit https://acoregister.rti.org/ for information about registration.

FOR FURTHER INFORMATION CONTACT: Additional information is available on the registration Web site at https://acoregister.rti.org/. Click on “contact us” to send questions or comments via email. Press inquiries are handled through the CMS Press Office at (202) 690-6145.

SUPPLEMENTARY INFORMATION:

I. Background

Section 1115A of the Social Security Act (the Act), as added by section 3021 of the Patient Protection and Affordable Care Act (Pub. L. 111-148), as amended by the Health Care and Education Reconciliation Act of 2010 (Pub. L. 111-152) (collectively, the Affordable Care Act), established the Center for Medicare and Medicaid Innovation (Innovation Center) for the purpose of examining new ways of delivering health care and paying health care providers in ways that can save money for Medicare, Medicaid and CHIP while improving the quality of care for beneficiaries. Through Accelerated Development Learning Sessions (ADLS), the Innovation Center will test whether intensive shared learning activities will expand and improve the capabilities of provider organizations to coordinate the care of a population of Medicare beneficiaries more effectively than organizations that do not participate in the ADLS. Well coordinated care can improve beneficiaries' quality outcomes and reduce the growth of Medicare expenditures.

Completion of the ADLS will not be a factor for selection or participation in a CMS ACO program. It is intended to provide ACOs with the opportunity to learn from their peers about essential ACO functions and various ways to build capacity needed to achieve better care for individuals, better population health, and lower growth in health care expenditures.

The ADLSs were first announced in the May 19, 2011 Federal Register (76 FR 28988). This third and final ADLS will combine the third and fourth sessions called for in the original notice. By holding the meeting at the CMS complex in Baltimore, Maryland, CMS hopes to enhance the dialogue between healthcare providers working to form ACOs and CMS staff developing ACO programs.

Each participating team should consist of two to four senior-level leaders (including at least one executive with financial/management responsibility and one with clinical responsibility). Participants are also asked to attend future web based seminars and complete a full ACO implementation plan as part of the broader ADLS initiative to facilitate on-going learning and evaluation.

II. Completion of Planning Tool and Session Registration Information

Registrants need to complete the registration form in order to participate in an ACO ADLS. Potential participants are also strongly encouraged to complete a comprehensive planning tool, which will allow them to take full advantage of the hands-on learning activities during the ADLS. The registration form and comprehensive planning tool are available on the ADLS Web site at https://acoregister.rti.org.

Authority: Section 1115A of the Social Security Act.

Dated: October 20, 2011.
Donald M. Berwick,
Administrator, Centers for Medicare & Medicaid Services.

[FR Doc. 2011-27958 Filed 10-27-11; 8:45 am]

BILLING CODE 4120-01-P